DEPARTMENT OF AGRICULTURE

Submission for OMB Review; Comments Requested

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding these information collections are best assured of having their full effect if received by June 28, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Dairy Products Mandatory Sales Reporting.

OMB Control Number: 0581-0274.

Summary of Collection: The Mandatory Price Reporting Act of 2010 amended § 273(d) of the Agricultural Marketing Act of 1946, requiring the Secretary of Agriculture to establish an electronic reporting system for certain manufacturers of dairy products to report sales information under a mandatory dairy product reporting program. Data collection for cheddar cheese, butter, dry whey, or nonfat dry milk sales is limited to manufacturing plants producing annually 1 million pounds or more of one of the surveyed commodities specified in the program.

Need and Use of the Information: Persons engaged in manufacturing dairy products are required to provide the Department of Agriculture (USDA) certain information, including the price, quantity, and moisture content, where applicable, of dairy products sold by the manufacturer. Various manufacturer reports are filed electronically on a weekly basis. Additional paper forms are filed by manufacturers on an annual basis to validate participation in the mandatory reporting program. Manufacturers and other persons storing dairy products must also report information on the quantity of dairy products stored. USDA publishes composites of the information obtained to help industry members make informed marketing decisions regarding dairy products. The information is also used to establish minimum prices for Class III and Class IV milk under Federal milk marketing orders. Without this information USDA would not be able to verify compliance with applicable regulations.

Description of Respondents: Businesses—Cheddar Cheese, 40 lb. Blocks.

Number of Respondents: 219.

Frequency of Responses: Reporting: On occasion; Weekly; Annually.

Total Burden Hours: 1,767.

Levi S. Harrell,
Departmental Information Collection Clearance Officer.

[FR Doc. 2021-11202 Filed 5-26-21; 8:45 am]

BILLING CODE 3410-02-P